DEPARTMENT OF HOUSING AND URBAN DEVELOPMENT

Docket No. FR-5486-N-24]

Notice of Proposed Information Collection for Public Comment: Pre-Purchase Homeownership Counseling Demonstration and Impact Evaluation

AGENCY: Office of the Policy Development and Research, HUD.

ACTION: Notice.

SUMMARY: The proposed information collection requirement described below will be submitted to the Office of Management and Budget (OMB) for review, as required by the Paperwork Reduction Act. The Department is soliciting public comments on the subject proposal.

DATES: Comments Due Date: December 19, 2011.

ADDRESSES: Interested persons are invited to submit comments regarding this proposal. Comments should refer to the proposal by name and/or OMB Control number and should be sent to: Reports Liaison Officer, Office of Policy Development & Research, Department of Housing and Urban Development, 451 7th Street, SW., Room 8226, Washington, DC 20410-5000.

FOR FURTHER INFORMATION CONTACT: Marina L. Myhre, (202) 402-5705 for copies of the proposed forms and other available documents. (This is not a toll-free number.)

SUPPLEMENTARY INFORMATION: The Department will submit the proposed information collection to OMB for review, as required by the Paperwork Reduction Act of 1995 (44 U.S.C. chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

This Notice also lists the following information:

Title of Proposal: Pre-Purchase Homeownership Counseling Demonstration and Impact Evaluation.

Description of the need for the information and proposed use: This request is for the clearance of data collection instruments designed to collect the information necessary to conduct a random assignment evaluation of pre-purchase homeownership counseling. The evaluation will produce valuable information about the impact of pre-purchase homeownership counseling on a range of outcomes for low- to moderate-income first-time FHA home buyers. Four thousand study participants will be enrolled through the branch offices and telephone centers of three national lenders in 10 jurisdictions throughout the country. Lender staff will ask potential home buyers to voluntarily participate in the study, directing interested participants to the telephone call-in research center for the eligibility assessment and baseline survey. To achieve 4,000 enrolled study participants, the intake and eligibility assessment will be conducted with up to 7,000 potential study participants over a period of 9 to 10 months. Additionally, 45 study participants will be asked to participate in semi-structured follow-up interviews that seek to learn about participants' experiences with enrollment and interaction with participating counseling agencies.

In each of the 10 jurisdictions for the study, local counseling agencies and national counseling intermediaries will be recruited to provide (a) Online education and telephone counseling and (b) in-person education and counseling. One national provider will be responsible for the online education and telephone counseling. Local counseling agencies will be recruited to provide the in-person education and counseling. In each case, the counseling agencies will be responsible for documenting the counseling services provided to the 2,300 study participants assigned to receive one of these types of counseling (the remaining 1,700 study participants constitute the control group). Staff of the lenders and counseling agencies will be asked to participate in semi-structured interviews that seek to understand the enrollment process and provision of counseling in each jurisdiction. The purpose of these data collection activities is to collect the information needed to evaluate the impact of pre-purchase housing counseling.

OMB Approval Number: Pending.

Agency form numbers: None.

Members of Affected Public: Up to 7,000 potential first-time homebuyers; Up to 30 counseling organizations; and, up to 1500 lender staff in 10 jurisdictions.

Estimation of the total number of hours needed to prepare the information collection including number of respondents, frequency of response, and hours of response: The average time per client for the 7,000 potential study participants to complete the intake and eligibility assessment is 10 minutes. The average time per client for the 4,000 enrolled study participants to complete the baseline survey is 25 minutes. The average time per client for the follow-up interviews is 30 minutes. The average time per client for counseling agencies to document the services provided to study participants is 10 minutes, with responses required for both the educational component and for the counseling services. The average time for counseling agency staff to complete interviews is 60 minutes—up to 8 interviews conducted at up to 30 counseling organizations. The average time per client for lender staff to input the intake information is 3 minutes, with intake conducted with up to 7,000 potential study participants. The total burden for the study is 4,274 hours: 2,857 hours for study participants and potential study participants, 1,007 hours for counseling agencies, and 410 hours for lenders.

Status of the proposed information collection: Pending OMB approval.

Authority: Section 3506 of the Paperwork Reduction Act of 1995, 44 U.S.C. Chapter 35, as amended.

Dated: October 11, 2011.
Raphael W. Bostic,
Assistant Secretary for Policy Development and Research.

[FR Doc. 2011-26919 Filed 10-17-11; 8:45 am]

BILLING CODE 4210-67-P